DEPARTMENT OF EDUCATION

Office of Elementary and Secondary Education and the Office of Vocational and Adult Education—Smaller Learning Communities Grant Program

AGENCY: Department of Education.

ACTION: Notice of proposed priorities, application requirements, and selection criteria for fiscal year 2001.

SUMMARY: The Acting Deputy Assistant Secretary for Elementary and Secondary Education and the Deputy Assistant Secretary for Vocational and Adult Education announce proposed priorities, application requirements, and selection criteria for the Smaller Learning Communities (SLC) grant program for fiscal year FY 2001.

Estimated Available Funds: $125,000,000

Note: The Secretary is authorized to reserve $7,500,000 from these funds for peer review, evaluation, technical assistance, outreach, and product dissemination activities. These activities are designed to support the local grants, evaluate the success of the program, and help ensure the dissemination and replication of best practices to schools nationwide.

DATES: We must receive your comments by August 20, 2001.

ADDRESSES: All comments concerning these proposed priorities, application requirements, and selection criteria should be addressed to Diane Austin, U.S. Department of Education, Office of Elementary and Secondary Education, 400 Maryland Avenue, SW, Room 5C149, Washington, DC 20202. Comments may be sent through the Internet at: smallerlearningcommunities@ed.gov. You must include the term “Smaller Learning Communities Grant Program” in the subject line of your electronic message.

If you want to comment on the information collection requirements you must send your comments to the Office of Management and Budget at the address listed in the Paperwork Reduction Act section of this preamble. You may also send a copy of these comments to the Department representative named in this section.

FOR FURTHER INFORMATION CONTACT: Diane Austin, Smaller Learning Communities Grant Program, U.S. Department of Education, 400 Maryland Avenue, SW, Room 5C149, Washington, DC 20202-6200, (202) 260-1280. Fax: (202) 260-8969. Email: smallerlearningcommunities@ed.gov. You may also visit our website at: www.ed.gov/offices/OESE/SLCP. Individuals who use the telecommunications device for the deaf (TDD) may call the Federal Information Relay Service (FIRS) at 1-800-877-8339.

Individuals with disabilities may obtain this document in an alternative format (e.g., Braille, large print, audiotape, or computer diskette) on request to the contact person listed above.

Note: This notice does not solicit applications. A notice inviting applications under this competition will be published in the Federal Register concurrent with or following the publication of the final priorities, application requirements, and selection criteria. We will determine the final priorities after considering responses to this notice and other information available to the Department. This notice does not preclude us from proposing or funding additional priorities, subject to meeting applicable rulemaking requirements.

SUPPLEMENTARY INFORMATION:

Background

The Smaller Learning Communities grant program is authorized under section 10105 of part A of title X of the Elementary and Secondary Education Act of 1965 (ESEA) (20 U.S.C. 8005). Title X, Part A authorizes the Secretary to support nationally significant programs and projects to: (1) Improve the quality of education; (2) assist all students in meeting challenging State content standards; and (3) contribute to achieving National Education Goals.

The purpose of the Smaller Learning Communities Program is to support the implementation or expansion of small, safe, and successful learning environments in large high schools through competitive grants to local educational agencies (LEAs). LEAs may apply on behalf of large high schools, including large high schools funded by the Bureau of Indian Affairs (BIA schools). For the purposes of this program, a large high school is defined as a school that includes grades 11 and 12 and enrolls at least 1,000 students in grades 9 and above.

Strategies for recasting large schools as a set of small learning communities are included in the Conference Report for the Consolidated Appropriations Act, 2000 [Pub. L. 106-113, H.R. Conference Report No. 106-479, at 1240(1999)]. Such strategies include:

(1) Establishing small learning clusters, “houses,” career academies, magnet schools, or other approaches to creating schools within schools;

(2) Block scheduling;

(3) Personal adult advocates, teacher advisory systems, and other mentoring strategies;

(4) Reducing teaching loads; and

(5) Other innovations designed to create a more personalized high school experience for students and improve student achievement.

In FY 2000, Congress appropriated $45 million for the SLC program, of which the Department awarded $42.3 million in support of 149 grants to LEAs. The Secretary awarded 84 one-year planning grants and 65 three-year implementation grants. A total of 349 schools, serving over 450,000 students, benefited during the first year of the program. The Secretary reserved the remaining $2,250,000 to fund national leadership activities.

Congress appropriated $125 million for this program in fiscal year 2001. The Administration is not requesting funds for the Smaller Learning Communities program in fiscal year 2002. Rather, the Administration is proposing a new Choice and Innovation State Grants program under which States and LEAs would have greater flexibility in using funds for activities, such as the creation of smaller learning communities, that will lend to educational reform and improvement.

The Secretary intends to share program information and provide grant-writing technical assistance on an as needed basis. Potential applicants are encouraged to review the Frequently Asked Questions section of the program's website at: www.ed.gov/offices/OESE/SLCP. Written questions may be submitted through the Internet at: smallerlearningcommunities@ed.gov. Details on any other outreach activities will be included as part of the final application package and posted on the program's website at the address listed above.

Priorities

The goal of the Smaller Learning Communities program is to ensure that high schools are safe, nurturing, and effective environments where all students feel known, supported, and motivated to succeed in post secondary education and chosen careers. The proposed priorities authorize the Department to give preference to those applicants that have the greatest need and the capacity to create more personalized learning environments.

Competitive Priorities

Under 34 CFR 75.105(c)(2)(i), the Secretary proposes to give preference to applications that meet one or both of the following two competitive priorities. Where applicable, these points would be in addition to any points the application earns under the selection criteria for this year's grant competition.

Proposed Competitive Priority 1—Low-Performing Schools

The Secretary proposes to award up to five (5) additional points to applicants that provide a comprehensive action plan for turning around low-performing schools in their district. Low-performing schools can be identified by local and State educational agencies under section 1116 of the Elementary and Secondary Education Act. In addition, for the purposes of this program, States and LEAs that have their own established criteria for identifying low-performing schools may use those criteria to meet the competitive priority.

To receive any points under this competitive priority, LEAs, applying on behalf of a low-performing school(s), must provide evidence of their schools' designation. The applicant's plan must reflect its understanding of the research on effective strategies for turning around low-performing schools and describe how the research has been incorporated into its plan for creating a smaller learning community. The application must also both include (1) a plan to build partnerships with technical assistance providers, foundations, or other organizations engaged in turning around low-performing schools; and (2) document how the applicant will use other resources, particularly other Federal resources, in its efforts to improve student achievement.

Proposed Competitive Priority 2— Current Planning Grantees

The Secretary proposes to give preference to applicants that are recipients of planning grants awarded in program year 2000 if they provide evidence of the completion of an SLC implementation plan. LEAs awarded planning grants must produce viable implementation plans. In the case of otherwise evenly scored applicants, the competitive preference shall be the deciding factor.

Application Requirements

A discussion of each proposed requirement follows:

A. Eligible Schools

We propose that to be considered for funding, LEAs must include the name(s) of the eligible school(s) and the number of students enrolled in each school. Enrollment must be based upon data from the current school year or data from the most recently completed school year. LEAs applying on behalf of schools that are being constructed and do not have an active student enrollment at the time of application are not eligible under this program.

Rationale

While the legislation clearly addresses the requirements for eligibility, it does not require LEAs to identify specifically the schools that will benefit from a grant. We propose that each applicant include enrollment data supporting the eligibility of each school. This will enable the Department to determine if each school identified in an application meets the proposed definition of a large high school.

B. Types of Grants

Since the Administration is not requesting funds for the Smaller Learning Communities program in fiscal year 2002, the Secretary proposes to award only implementation grants under this year's competition. LEAs that have a developed plan in place are encouraged to apply for an implementation grant. Further, LEAs with schools that have existing smaller learning communities may apply for an implementation grant if they wish to expand their SLC efforts. Implementation grants will be funded for a three-year project period.

Note: Understanding the unique complexities of implementing a “transformational” program requiring changes in the nature of instruction and school culture that impacts the physical design, organization, curriculum, and teacher preparation, the Secretary anticipates awarding the entire grant amount for implementation projects at the time of the initial award. This will provide the applicant with the capacity to carry out effectively the comprehensive long-term activities involved in model development, documentation, evaluation, and dissemination of products and practices developed through the Federal grant.

C. Award Ranges

For a three-year implementation grant, the Secretary proposes that LEAs may request, on behalf of a single school, $250,000 to $500,000 per project. LEAs applying on behalf of a group of eligible schools may request up to $2,500,000 per implementation grant. As this program is designed to finance direct student services and local redesign and improvement efforts, districts must stay within the minimum and maximum school allocations when determining their group award request. Therefore, in order to ensure sufficient implementation funds at the local level, LEAs may not request funds for more than 10 schools under a group application.

The chart below provides ranges for award requests under the implementation grant:

Number of schools in LEA application | Award ranges
One School | $250,000-$500,000
Two Schools | 500,000-1,000,000
Three Schools | 750,000-1,500,000
Four Schools | 1,000,000-2,000,000
Five Schools | 1,250,000-2,500,000
Six Schools | 1,500,000-2,500,000
Seven Schools | 1,750,000-2,500,000
Eight Schools | 2,000,000-2,500,000
Nine Schools | 2,250,000-2,500,000
Ten Schools | 2,500,000

To ensure maximum flexibility and competitiveness, LEAs may submit multiple applications targeting distinct schools within each application. Schools that benefited from FY 2000 implementation awards are not eligible to receive additional support under this competition. The total amount an LEA may receive through any combination of awards made under this program may not exceed 5 million.

Rationale

By establishing grant award ranges and maximum LEA award amounts, the Department will be able to fund a much larger number of grants, ensure maximum geographic distribution, and encourage implementation of a diverse range of SLC strategies. The proposed minimum and maximum award amounts should provide sufficient funding for direct services to students and for school-based implementation activities. The Department determined these amounts in consultation with other Federal programs and private organizations with experience in developing and implementing SLCs. Applicants must be fully committed and prepared to undertake the activities described in the application.

D. Page Limit for the Application Narrative

We strongly recommend that applicants limit the narrative section of the application to the equivalent of no more than 25 double-spaced pages using the following standards:

(1) A page is 8.5″ x 11″, on one side only;

(2) The page limit includes all narrative, titles, headings, footnotes, quotations, references, and captions, as well as charts, tables, figures, and graphs. Charts, tables, figures, and graphs may be single-spaced;

(3) The font should be 11-point or larger;

(4) The page limit does not apply to the Application for Federal Education Assistance Form (424); the Budget information Form (ED 524) and attached itemization of costs; any other required or supplementary application forms and attachments to those forms; the assurances and certifications; or the table of contents and the one page abstract which should precede the narrative section and provide a short description of the project; evidence of competitive priorities; or appendices;

(5) Appendices used should relate directly to the selection criteria and project activities. Pages should be numbered.

Rationale

In previous competitions successful applicants have demonstrated that they can successfully describe their programs within this page limit.

E. Reporting Requirements and Expected Outcomes

We propose that to be eligible for an implementation grant, applicants must describe in their proposals for funding their:

(a) Project objectives;

(b) Measures of student outcomes and performance; and

(c) Indicators to gauge progress toward meeting project objectives.

In addition, the Secretary proposes to require that applicants for implementation grants have, or will have, a data collection system with the capacity to produce annual performance reports throughout the project period of the grant. These reports will document the grantee's yearly progress toward expected project objectives. The Secretary will use these reports to measure the success of the grantee's project, as well as the effects of the Department of Education's Smaller Learning Communities grant program nationwide.

We also propose that applicants submit initial baseline data for each student outcome measure described below. Baseline data should come from either the current or previous school year. Applicants should report this data as part of their narrative in accordance with the evaluation selection criteria. Upon notification of award, grantees will be required to submit student outcome data for three years preceding the baseline year.

Required student outcome measures include:

I. Student Achievement.

(a) The number of students scoring at each proficiency level for each subject measured by a State or district assessment in grades 9-12; and

(b) The number of students taking the SAT and ACT, and their average scores.

II. Academic Rigor and Student Retention.

(a) The number of students who take courses for which they receive both high school and college credit;

(b) The number of students completing high school; and

(c) The overall reported average daily attendance for October.

III. School Climate.

(a) The number of incidents of student violence, and of alcohol and drug use;

(b) The number of expulsions, suspensions, or other serious disciplinary actions; and

(c) The number of students involved in extracurricular activities.

Note: Percentages may be used in place of number of students where appropriate.

F. Definitions

(a) Definitions in EDGAR—Definitions defined in 34 CFR 77.1 are applicable to this program.

(b) Other definitions—The Secretary proposes that the following definitions also apply to this program:

BIA school is a school operated or supported by the Bureau of Indian Affairs.

A group of schools is two or more schools that each meet the definition of a large high school.

A large high school is an entity that includes grades 11 and 12 and has an enrollment of 1,000 or more students in grades 9 and above.

A low-performing school is a school identified by local and State educational agencies under section 1116 of the Elementary and Secondary Education Act. Under current law, any Title I school that has not made “adequate yearly progress” over two consecutive years is identified by its LEA for improvement. In addition, for the purpose of this program, States and LEAs that have established criteria for identifying such schools may use their criteria to meet the competitive priority preference.

Selection Criteria

The Secretary proposes that the following selection criteria be used to evaluate applications for new grants under this competition. The maximum score for all of these criteria is 100 points. The maximum score for each criterion or factor under that criterion is indicated in the parentheses. There are not specific point totals for the subcategories within each criterion.

The Secretary proposes utilizing a peer review process in which peer review panels will evaluate the applications using the selection criteria and the associated point values. The Secretary intends to base final funding decisions on the panel review ranking of applications and an acceptable geographic balance between urban and rural grantees.

Implementation Grants

(a) Need for the project. (25 points)

In determining the need for the proposed project, the Secretary considers the following factors:

(1) The description and documentation of the targeted schools' need for the services provided and the need for the activities carried out by the proposed project consistent with the social and educational problems and issues generally associated with the impersonal nature of large high schools. Need may consider factors such as: Enrollment; attendance and drop-out rates; incidents of violence, drug and alcohol use, and disciplinary actions; percentage of students who pass graduation exams or local assessments, enroll in advanced level courses, register for college entrance exams, and matriculate into postsecondary institutions or training; percentage of students who have limited English proficiency, who are migrant youth, who come from low-income families, or are otherwise disadvantaged; the applicant's fiscal capacity to fund programs described here without Federal assistance; or other local need factors as described by the applicant.

(2) The nature and magnitude of specific gaps or weaknesses and the extent to which those weaknesses in services, infrastructure, or opportunities have been identified by the applicant and will be addressed by the proposed project.

(b) Foundation for implementation. (15 points)

In determining the quality of the implementation plan for the proposed project, the Secretary considers the extent to which the application:

(1) Documents the involvement and support of stakeholders both within the school community (e.g., administrators, staff, students, and parents) and within the greater community (e.g. representatives of institutions of higher education, employers, workforce investment boards, youth councils, and community-based organizations).

(2) Provides clear evidence of teacher involvement and support, particularly of those teachers who will be affected directly by the implementation plan.

(3) Uses research-based findings and outside technical assistance in the proposed restructuring and in determining appropriate strategy(ies) to be implemented.

(c) Feasibility and soundness of the plan. (35 points)

In determining the quality of the proposed project, the Secretary considers the extent to which:

(1) The goals and objectives of the smaller learning communities correspond to identified needs and are written in terms of student outcomes, including academic achievement.

(2) The curriculum and instructional practices within each smaller learning community are aligned with its goals, theme, and emphases, where they exist.

(3) The proposed smaller learning communities intervention(s) will benefit all students in the school and enable them to reach challenging State content standards and performance standards, ensuring their successful completion of high school and preparation for postsecondary education or a career.

(4) Professional development activities offered to teachers, non-instructional school staff, and others are aligned with smaller learning community goals.

(5) The applicant provides a rationale for—

• Identifying grade levels and ages of students to be served by the smaller learning community; and

• The methods and timetable for placing students in the smaller learning community. Note: Students are not to be placed according to ability, performance, or any other measure of merit. The Department expects that all students will benefit from the SLC intervention.

(6) The management plan appears capable of achieving the objectives of the proposed project on time and within budget, including:

• The past experience, training, and clearly defined responsibilities of personnel who have key roles in carrying out the project; and

• The timelines and milestones for accomplishing project tasks.

(d) Quality of the project evaluation. (15 points)

In determining the quality of the evaluation to be conducted of the proposed project, the Secretary considers whether the applicant has designed an effective method for:

(1) Collecting student performance data, including:

• Required annual performance reports;

• Baseline data (refer to “Reporting Requirements and Expected Outcomes”), and data for three years preceding the baseline (the latter due upon award); and

• Monitoring and understanding changes in student outcomes for continuous improvement.

(2) Describing, on an annual basis, the progress towards implementing smaller learning communities and implementing related program changes undertaken to make the smaller learning communities safe and successful. This information will be reported in the Annual Performance Report.

(3) Disseminating best practices and products designed under this grant.

(e) Adequacy of resources. (10 points)

In determining the adequacy of resources for the proposed project, the Secretary considers the extent to which:

(1) State, local, foundation, and other Federal funds will be used to support the implementation of the plan.

(2) The applicant will limit equipment, administrative costs, and other purchases in order to maximize the amount spent on delivery of services to students.

(3) The applicant demonstrates a commitment to sustaining the project beyond the period covered by the Federal grant.

Paperwork Reduction Act of 1995

This notice contains information collection requirements. Under the Paperwork Reduction Act of 1995 (44 U.S.C. 3507(d)), the Department of Education has submitted a copy of this notice to OMB for its review.

The time required to complete this information collection is estimated to average sixty-five (65) hours per response, including the time to review instructions, search existing data resources, gather and maintain the data needed, and complete and review the information collection.

If you want to comment on the information collection requirements, please send your comments to the Office of Information and Regulatory Affairs, OMB, Room 10235, New Executive Office Building, Washington, DC 20503; Attention: Lauren Wittenberg. You may also send a copy of these comments to the Department representative named in the ADDRESSES section of this preamble.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques or other forms of information technology; e.g., permitting electronic submission of responses.

OMB is required to make a decision concerning the collection of information contained in this notice of proposed priorities, requirements, and selection criteria between 30 and 60 days after publication of this document in the Federal Register. Therefore, to ensure that OMB gives your comments full consideration, it is important that OMB receives the comments within 30 days of publication. This does not affect the deadline for your comments to us on the proposed regulations.

Intergovernmental Review

This program is subject to the requirements of Executive Order 12372 and the regulations in 34 CFR Part 79. The objective of the executive order is to foster an intergovernmental partnership and a strengthened federalism by relying on processes developed by State and local government for coordination and review of proposed Federal assistance.

In accordance with this order, this document is intended to provide early notification of the Department's specific plans and actions for this program.

Invitation To Comment

We invite you to submit comments regarding these proposed priorities, proposed selection criteria, and proposed application requirements. To ensure that your comments have the maximum effect in developing the Secretary's final notice of priorities, application requirements, and selection criteria we urge that you clearly identify the specific section of this notice that each of your comments addresses and arrange your comments in the same order as the sections appear in the notice.

We invite you to assist us in complying with the specific requirements of Executive Order 12866 and its overall requirement of reducing regulatory burden that might result from these proposed priorities, selection criteria, application requirements, and guidance. Please let us know of any further opportunities that we should take to reduce potential costs or increase potential benefits while preserving the effective and efficient administration of the program. All comments submitted in response to this notice will be available for public inspection, during and after the comment period, in Room 5C141, 400 Maryland Avenue, SW, Washington, DC, between the hours of 8:30 a.m. and 4 p.m., Eastern time, Monday through Friday of each week excluding Federal holidays.

Assistance to Individuals With Disabilities in Reviewing the Rulemaking Record

On request, we will supply an appropriate aid, such as a reader or print magnifier, to an individual with a disability who needs assistance to review the comments or other documents in the public rulemaking record for these proposed priorities and proposed selection criteria. If you would like to schedule an appointment for this type of aid, you may call (202) 205-8113 or (202) 260-9895. If you use a TDD, you may call the Federal Information Relay Service (FIRS) at (800) 877-8339.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington DC area at (202) 512-1530.

Note: The official version of this document is the document published in the Federal Register. Free Internet access to the official edition of the Federal Register and the Code of Federal Regulations is available on GPO Access at: http://access.gpo.gov/nara/index.html.

(Catalogue of Federal Assistance Number: 84.215L Smaller Learning Communities Grant Program)

Program Authority: 20 U.S.C. 6661 et seq.

Dated: July 13, 2001.
Thomas M. Corwin,
Acting Deputy Assistant Secretary for Elementary and Secondary Education.
Robert D. Muller,
Deputy Assistant Secretary for Vocational and Adult Education.

[FR Doc. 01-18073 Filed 7-18-01; 8:45 am]

BILLING CODE 4000-01-P